DEPARTMENT OF AGRICULTURE

Commodity Credit Corporation

Notice of Request for Revision of Currently Approved Information Collection

AGENCY: Commodity Credit Corporation, USDA.

ACTION: Notice and request for comments.

SUMMARY: In accordance with the Paperwork Reduction Act of 1995, this notice announces the Commodity Credit Corporation's (CCC) intention to request a revision from the Office of Management and Budget (OMB) for a currently approved information collection process in support of the Foreign Market Development Cooperator's (Cooperator) Program and the Market Access Program (MAP).

DATES: Comments on this notice must be received by May 4, 2009 to be assured of consideration.

Additional Information or Comments: Contact Director, Program Operations Division, Foreign Agricultural Service, Portals Office Building, Suite 400, 1250 Maryland Avenue, SW., Washington, DC 20024, (202) 720-4327, fax: (202) 720-9361, e-mail: ppsadmin@fas.usda.gov.

SUPPLEMENTARY INFORMATION: Title: Foreign Market Development (Cooperator) Program and Market Access Program.

OMB Number: 0551-0026.

Expiration Date of Approval: June 30, 2009.

Type of Request: Revision of a currently approved information collection process.

Abstract: The primary objective of the Cooperator's Program and MAP is to encourage and aid in the creation, maintenance, and expansion of commercial export markets for U.S. agricultural products through cost-share assistance to eligible trade organizations. The programs are a cooperative effort between CCC and eligible trade organizations. Currently, there are approximately 70 organizations participating directly in the programs with activities in more than 100 countries.

Prior to initiating program activities, each Cooperator or MAP participant must submit a detailed application to the Foreign Agricultural Service (FAS) which includes an assessment of overseas market potential; market or country strategies, constraints, goals, and benchmarks; proposed market development activities; estimated budgets; and performance measurements. Prior years' plans often dictate the content of current year plans because many activities are continuations of previous activities. Each Cooperator or MAP participant is also responsible for submitting: (1) Reimbursement claims for approved costs incurred in carrying out approved activities, (2) an end-of-year contribution report, (3) travel reports, and (4) progress reports/evaluation studies. Cooperators or MAP participants must maintain records on all information submitted to FAS. The information collected is used by FAS to manage, plan, evaluate, and account for Government resources. The reports and records are required to ensure the proper and judicious use of public funds.

Estimate of Burden: Public reporting burden for this collection of information is estimated to average 21 hours per response.

Respondents: Non-profit trade organizations, state groups, cooperatives, and commercial entities.

Estimated Number of Respondents: 71.

Estimated Number of Responses per Respondent: 62.

Estimated Total Annual Burden on Respondents: 92,442 hours.

Copies of this information collection can be obtained from Tamoria Thompson-Hall, the Agency Information Collection Coordinator, at (202) 690-1690.

Request for Comments: Send comments regarding the accuracy of the burden estimate, ways to minimize the burden, including through the use of automated collection techniques or other forms of information technology, or any other aspect of this collection of information. Comments may be sent to Director, Program Operations Division, Foreign Agricultural Service, Portals Office Building, Suite 400, 1250 Maryland Avenue, SW., Washington, DC 20024. Facsimile submissions may be sent to (202) 720-9361 and electronic mail submissions should be addressed to ppsadmin@fas.usda.gov. Persons with disabilities who require an alternative means for communication of information (Braille, large print, audiotape, etc.) should contact USDA's Target Center at (202) 720-2600 (voice and TDD). All responses to this notice will be summarized and included in the request for OMB approval. All comments will also become a matter of public record.

Signed at Washington, DC on January 27, 2009.
Suzanne Hale,
Acting Administrator, Foreign Agricultural Service, and Acting Vice President, Commodity Credit Corporation.

[FR Doc. E9-4702 Filed 3-4-09; 8:45 am]

BILLING CODE 3410-10-P